DEPARTMENT OF TRANSPORTATION

Federal Aviation Administration

14 CFR Part 39

[Docket No. FAA-2009-0198; Directorate Identifier 2008-NM-129-AD]

RIN 2120-AA64

Airworthiness Directives; Fokker Model F.28 Mark 0100 Airplanes

AGENCY: Federal Aviation Administration (FAA), Department of Transportation (DOT).

ACTION: Notice of proposed rulemaking (NPRM).

SUMMARY: The FAA proposes to supersede an existing airworthiness directive (AD) that applies to certain Fokker Model F.28 Mark 0100 airplanes. The existing AD currently requires revisions to the airplane flight manual (AFM) to include procedures to prohibit use of reverse engine thrust power settings between idle and emergency maximum and to prohibit stabilized engine operation in a certain engine speed range on the ground. This proposed AD would continue to require revising the AFM to include certain procedures. This proposed AD would also require removing the normal maximum (second) detent for the reverse-thrust control. In addition, this proposed AD would require revising the AFM to prohibit use of reverse thrust in flight and to limit operation of Max Reverse thrust. This proposed AD results from issuance of mandatory continuing airworthiness information (MCAI) originated by an aviation authority of another country to identify and correct an unsafe condition on an aviation product. We are proposing this AD to prevent inadvertent operation in the prohibited stabilized engine speed range on the ground, which could result in uncontained engine fan blade failure due to high cycle fatigue cracking.

DATES: We must receive comments on this proposed AD by April 6, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2009-0198; Directorate Identifier 2008-NM-129-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On March 5, 1998, we issued AD 98-06-07, amendment 39-10384 (63 FR 11985, March 12, 1998), for certain Fokker Model F.28 Mark 0100 airplanes. That AD requires revisions to the airplane flight manual (AFM) to include procedures to prohibit use of reverse engine thrust power settings between idle and emergency maximum and to prohibit stabilized engine operation in a certain engine speed range on the ground. That AD resulted from issuance of mandatory continuing airworthiness information by an aviation authority of another country. We issued that AD to prevent stabilized engine operation in a certain engine speed range on the ground, which could result in uncontained engine fan blade failure due to high cycle fatigue cracking.

Actions Since Existing AD Was Issued

The preamble to AD 98-06-07 explains that we consider the requirements “interim action” and were considering further rulemaking. In concert with the European Aviation Safety Agency (EASA), which is the airworthiness authority for the European Union, we now have determined that further rulemaking is indeed necessary, and this proposed AD follows from that determination.

Relevant Service Information

Fokker Services B.V. has issued Service Bulletin SBF100-76-014, Revision 2, dated December 12, 2007. The service bulletin describes procedures for removing the normal maximum (second) detent for the reverse-thrust control. The EASA mandated the service information and issued Airworthiness Directive 2008-0089, dated May 13, 2008 (referred to after this as “the MCAI”), to ensure the continued airworthiness of these airplanes in the European Union.

FAA's Determination and Requirements of the Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD would supersede AD 98-06-07 and continue to require revising the AFM to include procedures prohibiting stabilized engine operation in a certain engine speed range on the ground. This proposed AD would also require removing the normal maximum (second) detent for the reverse-thrust control. In addition, this proposed AD would require revising the AFM to prohibit use of reverse thrust in flight and to limit operation of Max Reverse thrust.

Change to Existing AD

This proposed AD would retain a certain requirement of AD 98-06-07. Since AD 98-06-07 was issued, the AD format has been revised, and certain paragraphs have been rearranged. As a result, the corresponding paragraph identifiers have changed in this proposed AD, as listed in the following table:

Revised Paragraph Identifiers
Requirement in AD 98-06-07 | Corresponding requirement in this proposed AD
paragraph (b) | paragraph (g).

Costs of Compliance

The following table provides the estimated costs for U.S. operators to comply with this proposed AD.

Estimated Costs
Action | Work hours | Average labor rate per hour | Cost per airplane | Number of U.S.-registered airplanes | Fleet cost
AFM revision (required by AD 98-06-07) | 1 | $80 | $80 | 5 | $400
Removal of second detent (new proposed action) | 3 | 80 | 240 | 5 | 1,200
AFM revision (new proposed action) | 1 | 80 | 80 | 5 | 400

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10384 (63 FR 11985, March 12, 1998) and adding the following new airworthiness directive (AD):

Fokker Services B.V.: Docket No. FAA-2009-0198; Directorate Identifier 2008-NM-129-AD.

Comments Due Date

(a) The FAA must receive comments on this AD action by April 6, 2009.

Affected ADs

(b) This AD supersedes AD 98-06-07.

Applicability

(c) This AD applies to Fokker Model F.28 Mark 0100 airplanes, certificated in any category, equipped with Rolls-Royce (RR) TAY 650-15 engines.

Subject

(d) Air Transport Association (ATA) of America Code 76: Engine controls.

Unsafe Condition

(e) This AD results from issuance of mandatory continuing airworthiness information (MCAI) originated by an aviation authority of another country to identify and correct an unsafe condition on an aviation product. We are issuing this AD to prevent inadvertent operation in the prohibited stabilized engine speed range on the ground, which could result in uncontained engine fan blade failure due to high cycle fatigue cracking.

Compliance

(f) You are responsible for having the actions required by this AD performed within the compliance times specified, unless the actions have already been done.

Certain Requirement of AD 98-06-07

Airplane Flight Manual (AFM) Revision

(g) Within 72 hours after March 27, 1998 (the effective date of AD 98-06-07), revise the Limitations Section of the FAA-approved AFM to add the following. This may be accomplished by inserting a copy of this AD in the AFM.

“LIMITATIONS POWERPLANT AND APU LIMITATIONS

OPERATING LIMITS

• To avoid high fan blade stresses, stabilized operation in the speed range between 60% and 75% Low Pressure Rotational Speed (N1) is not permitted during Ground Operations in Forward or Reverse Thrust, except that passing through this range while increasing or decreasing thrust is permitted.

THRUST REVERSER

Thrust reversers are intended for ground use only. Intentional use of reverse thrust in flight is prohibited. After reverse thrust has been initiated, a full stop landing must be made.

Maximum Reverse Thrust Lever Positions

Normal Operation:

—The idle detent position shall not be exceeded in normal operation.

—Momentarily exceeding the idle detent position, while selecting idle reverse, is acceptable.

Emergency Operation:

—In case of emergency, the emergency maximum reverse thrust may be used.

—If directional control problems occur, reduce to idle reverse or select forward idle.

—Stabilized operation with the reverse lever in an intermediate position between idle reverse and emergency maximum reverse is prohibited, except (where approved) during Power-Back operations.”

Note 1: Fokker Services Manual Change Notification—Operational Documentation (MCNO) No. F100-006, dated November 27, 1997, contains information that pertains to this subject. Rolls-Royce PLC Engine Operating Instruction Manual Reference F-TAY-3RR, revised by transmittal letter No. 13, dated October 15, 1997, also pertains to this subject.

New Actions Required by This AD

Removal of Normal Maximum Detent

(h) Within 12 months after the effective date of this AD, remove the normal maximum (second) detent for the reverse-thrust control, in accordance with the Accomplishment Instructions of Fokker Service Bulletin SBF100-76-014, Revision 2, dated December 12, 2007. Accomplishing the removal terminates the requirements of paragraph (g) of this AD.

(i) Actions done before the effective date of this AD in accordance with Fokker Service Bulletin SBF100-76-014, dated October 1, 2001; or Revision 1, dated June 1, 2002; are acceptable for compliance with the requirements of paragraph (h) of this AD.

AFM Revision

(j) Concurrently with the requirements of paragraph (h) of this AD, revise the Limitations Section of the Fokker F.28 Mark 0100 AFM to include the following (this may be accomplished by inserting a copy of this AD into the AFM):

“THRUST REVERSERS

Thrust reversers are intended for ground use only. Intentional use of reverse thrust in flight is prohibited.

The use of Max Reverse thrust is limited to operations on short runways or on runways with a reduced runway surface friction coefficient or in emergency conditions. Max Reverse thrust shall not be used at airspeeds below 60 knots except in emergency conditions.

Reverse thrust selections between Idle Reverse thrust and Max Reverse thrust are prohibited.”

Note 2: Fokker Manual Change Notification—Operational Documentation (MCNO) F100-032, Revision 1, dated September 21, 2007, contains information related to the AFM revision required by paragraph (j) of this AD.

Alternative Methods of Compliance (AMOCs)

(k) The Manager, International Branch, ANM-116, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office.

Related Information

(l) The European Aviation Safety Agency Airworthiness Directive 2008-0089, dated May 13, 2008, also addresses the subject of this AD.

Issued in Renton, Washington, on February 20, 2009.
Ali Bahrami,
Manager, Transport Airplane Directorate, Aircraft Certification Service.

[FR Doc. E9-4731 Filed 3-5-09; 8:45 am]

BILLING CODE 4910-13-P